DEPARTMENT OF JUSTICE

Parole Commission

Pursuant To The Government In The Sunshine Act (Public Law 94-409) (5 U.S.C. 552b)

Agency Holding Meeting: Department of Justice, United States Parole Commission.

Time and Date: 2:30 p.m., Tuesday, August 2, 2005.

Place: 5550 Friendship Blvd., Fourth Floor, Chevy Chase, MD 20815.

Status: Open.

Matters to be Considered: The following matter has been placed on the agenda for the open Parole Commission meeting:

Rule amendments for reviewing requests from the Attorney General for reconsideration of a Commission decision.

Earlier notice of this meeting could not be made because of the need to promptly resolve a pending request from the Attorney General for reconsideration of a Commission decision.

Agency Contact: Thomas W. Hutchison, Chief of Staff, United States Parole Commission, (301) 492-5990.

Dated: July 29, 2005.
Rockne Chickinell,
General Counsel, U.S. Parole Commission.

[FR Doc. 05-15405 Filed 8-1-05; 8:45 am]

BILLING CODE 4410-31-M